DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: Comments on the petitions must be received by the Office of Standards, Regulations, and Variances on or before July 9, 2007.

ADDRESSES: You may submit your comments, identified by “docket number” on the subject line, by any of the following methods:

1. E-Mail: Standards-Petitions@dol.gov.

2. Telefax: 1-202-693-9441.

3. Hand-Delivery or Regular Mail: Submit comments to the Mine Safety and Health Administration (MSHA), Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Edward Sexauer, Chief, Regulatory Development Division at 202-693-9444 (Voice), sexauer.edward@dol.gov (E-mail), or 202-693-9441 (Telefax), or contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2007-022-C.

Petitioner: Little Buck Coal Company, 57 Lincoln Road, Pine Grove, Pennsylvania 17963.

Mine: Bottom Split Slope Mine, (MSHA I.D. No. 36-09491), located in Schuylkill County, Pennsylvania.

Regulation Affected: 30 CFR 75.1100-2 (a)(2) (Quantity and location of firefighting equipment).

Modification Request: The petitioner requests a modification of the existing standard 30 CFR 75.1100-2(a)(2), which requires that each working section of underground coal mines producing less than 300 tons of coal per shift be provided with specified firefighting equipment and supplies. The equipment and supplies include two portable fire extinguishers, 240 pounds of rock dust in bags or other suitable containers, and at least 500 gallons of water and at least 3 pails of 10 quart capacity. The petitioner proposes to use portable fire extinguishers only, to replace existing requirements where rock dust, water cars, and other water storage equipped with three 10 quart pails are not practical. The petitioner states that equipping its small anthracite mine with two portable fire extinguishers near the slope bottom and an additional portable fire extinguisher within 500 feet of the working face will provide equivalent fire protection. The petitioner asserts that the proposed alternative method would provide at least the same measure of protection as the existing standard.

Docket Number: M-2007-023-C.

Petitioner: Little Buck Coal Company, 57 Lincoln Road, Pine Grove, Pennsylvania 17963.

Mine: Bottom Split Slope Mine, (MSHA I.D. No. 36-09491), located in Schuylkill County, Pennsylvania.

Regulation Affected: 30 CFR 75.1200 (d) & (i) (Mine map).

Modification Request: The petitioner proposes to use cross-sections instead of contour lines through the intake slope at locations of rock tunnel connections between veins, and at 1,000 foot intervals of advance from the intake slope. In addition, the petitioner proposes to limit the required mapping of the mine workings above and below to those present within 100 feet of the vein being mined, except when veins are interconnected to other veins beyond the 100-foot limit through rock tunnels. The petitioner states that contours provide no useful information due to the steep pitch encountered in mining anthracite coal veins, and their presence would make portions of the map illegible. The petitioner further states that use of cross-sections in lieu of contour lines has been practiced since the late 1800's and provides critical information about the spacing between veins and the proximity to other mine workings, which fluctuate considerably. Additionally, the petitioner states that the mine workings above and below are usually inactive and abandoned, and therefore not subject to changes during the life of the mine. The petitioner states that all mapping for mines above and below are researched by its contract engineer for the presence of interconnecting rock tunnels between veins in relation to the mine and a hazard analysis is done when mapping indicates the presence of known or potentially flooded workings. The petitioner asserts that when evidence indicates that prior mining was conducted on a vein above or below and research exhausts the availability of mine mapping, the vein will be considered to be mined and flooded and appropriate precautions will be taken under 30 CFR 75.388, where possible. Where potential hazards exist and in-mine drilling capabilities limit penetration, petitioner will drill surface boreholes to intercept the mine workings and will analyze the results prior to mining in the affected area. The petitioner asserts that the proposed alternative method would provide at least the same measure of protection as the existing standard.

Docket Number: M-2007-024-C.

Petitioner: Little Buck Coal Company, 57 Lincoln Road, Pine Grove, Pennsylvania 17963.

Mine: Bottom Split Slope Mine, (MSHA I.D. No. 36-09491), located in Schuylkill County, Pennsylvania.

Regulation Affected: 30 CFR 75.1202 and 30 CFR 75.1202-1(a) (Temporary notations, revisions, and supplements.

Modification Request: The petitioner requests a modification of the existing standard to permit the required interval of survey to be established annually in of lieu every 6 months. The petitioner proposes to update the mine map by hand notations on a daily basis, conduct subsequent surveys prior to commencing retreat mining, and when either a drilling program under 30 CFR 75.388 or plan for mining into accessible areas under 30 CFR 75.389 is required. The petitioner states that: (1) Low production and slow rate of advance in anthracite mining make surveying on 6 month intervals impractical and, in most cases, annual development is frequently limited to less than 500 feet of gangway advance with associated up-pitch development; (2) the majority of small anthracite mines are using non-mechanized, hand-loading mining methods; (3) development above the active gangway is designed to mine into the level above at designated intervals thereby maintaining sufficient control between both surveyed gangways; and (4) the available engineering/surveyor resources are very limited in anthracite coal fields which makes surveying difficult to achieve. The petitioner asserts that the proposed alternative method would provide at least the same measure of protection as the existing standard.

Docket Number: M-2007-025-C.

Petitioner: Little Buck Coal Company, 57 Lincoln Road, Pine Grove, Pennsylvania 17963.

Mine: Bottom Split Slope Mine, (MSHA I.D. No. 36-09491), located in Schuylkill County, Pennsylvania.

Regulation Affected: 30 CFR 75.1400 (c) (Hoisting equipment; general).

Modification Request: The petitioner proposes to use the slope (gunboat) to transport persons in shafts and slopes using an increased rope strength/safety factor and secondary safety rope connection instead of using safety catches or other no less effective devices. The petitioner asserts that the proposed alternative method would provide at least the same measure of protection as the existing standard.

Docket Number: M-2007-026-C.

Petitioner: Blue Diamond Coal Company, P.O. Box 47, Slemp, Kentucky 41763.

Mine: Mine # 77, (MSHA I.D. No. 15-09636), located in Perry County, Kentucky.

Regulation Affected: 30 CFR 75.364(b)(2) (Weekly examination).

Modification Request: The petitioner requests a modification of the existing standard to permit check points to be established in nine (9) locations to examine certain areas of the return air course. The petitioner states that: (1) Due to hazardous roof and rib conditions, and the distance from active workings and the age of these workings, it is impractical to expose personnel to the roof and rib hazards in the affected areas; and (2) to ensure no lesser degree of safety for all personnel in the mine, ventilation check points will be established to measure the air in the affected areas. The petitioner proposes to: (1) Establish air measurement stations at locations that will allow effective evaluation of ventilation in the affected areas. The measurements will be conducted by a certified person on a weekly basis, and a sign will be posted designating the location of measuring stations; (2) all air measurement stations will be maintained in safe condition at all times; (3) the date, time and results of these measurements will be recorded in a book kept on the surface or on a date board provided at each measuring station, and made accessible to all parties; (4) signs will be posted in an adjacent travel entry that will indicate the safe travel route to each monitoring station; (5) evaluations will be conducted by a certified person at each of the monitoring stations on a weekly basis that will include the quantity and quality of air entering or exiting the monitoring station. The measurements will be made using the MSHA approved and calibrated hand-held multi-gas detectors to check for methane and oxygen gas concentrations and appropriate calibrated anemometers to check air flow volume; (6) a diagram maintained in legible condition will be posted at the monitoring stations that will show the normal direction of the air flow, and any change in the direction of the air flow will be reported to the mine foreman for immediate investigation; (7) the date, time, and examiner's initials, and the measured quantity and quality of air will be recorded in a book or on a date board and will be provided at the monitoring stations; (8) the monitoring station location(s) will be shown on the annually submitted mine ventilation map and the stations will not be moved to another location without prior approval by the District Manager as part of the Ventilation Plan for the Bottom Split Slope Mine; and (9) all mine personnel will receive instructions on which areas they are not permitted to travel, and all other approaches will be fenced off or barricaded with “DO NOT ENTER” warning signs. Entry in the affected area will only be permitted to conduct investigations and to correct problems with the air flow that is detected through the monitoring process. This work will be done under the supervision of an authorized person. The petitioner has listed additional procedures in this petition that will be used to comply compliance to the proposed alternative method. Individuals may review a complete description of the procedures at the MSHA address listed in this notice. The petitioner asserts that this petition will provide no lesser degree of safety for the personnel at the Mine # 77.

Dated: June 1, 2007.
Jack Powasnik,
Acting Deputy Director, Office of Standards, Regulations, and Variances.

[FR Doc. E7-11131 Filed 6-7-07; 8:45 am]

BILLING CODE 4510-43-P